DEPARTMENT OF AGRICULTURE

Forest Service.

Flathead National Forest, Swan Lake Ranger District, Montana; Cooney McKay Project Environmental Impact Statement

AGENCY: Forest Service, USDA.

ACTION: Notice of intent to prepare an environmental impact statement.

SUMMARY: The Forest Service will prepare an Environmental Impact Statement (EIS) for a proposal to harvest timber, reduce hazardous forest fuels, and construct temporary roads within the Cooney McKay Project area. The project area is approximately 35 miles southeast of Bigfork, Montana, in the vicinity of the community of Condon, Montana. The Forest Service is seeking further information and comments from Federal, State, and local agencies and other individuals or organizations that maybe interested in or affected by the proposed actions. These comments will be used to prepare the draft EIS.

DATES: The draft environmental impact statement is expected in March 2007 and the final environmental impact statement is expected in May 2007.

ADDRESSES: Send written comments to Steve Brady, District Ranger, Swan Lake Ranger District, 200 Ranger Station Road, Bigfork, MT 59911.

FOR FURTHER INFORMATION CONTACT: Sue Tebay, Project Writer-Editor, Swan Lake Ranger District, 200 Ranger Station Road, Bigfork, MT 59911.

SUPPLEMENTARY INFORMATION:

Forest Plan

The EIS will tier to the Flathead National Forest Land and Resource Management Plan (LRMP) and EIS of January, 1986, and its subsequent amendments, which provide overall guidance of all land management activities on the Flathead National Forest.

Background and Existing Condition Information

The Forest Services believes that a combination of factors such as natural succession processes, extended regional drought patterns, introduction of invasive plants, human development patterns, along with unintended consequences of past management practices (e.g., fire suppression policies) have crated and continue to lead to vegetative conditions that do not wholly meet the desired future condition for the project area, as described in the Forest Plan. The consequences of these environmental changes and past management practices place portions of the forested landscape at an elevated risk to unwanted disturbances such as insect epidemics, wide-scale disease infections, and high-severity wildfire.

Purpose and Need for Action

The purpose and need for the Cooney McKay project include: (1) Improving the general health, resiliency, and sustainability of forest vegetative communities within the project area; (2) reducing the risk of insect epidemics and disease infestations within the project area; (3) reducing the hazardous forest fuels buildup on National Forest System lands adjacent to private lands within the project area; (4) providing for a safer environment for the public and firefighters should a wildfire occur within the project area; increase the probability of stopping wildfires on National Forest Services lands before they burn onto private lands; and (5) providing commercial and personal-use wood products for the local communities.

Proposed Action

To move toward the desired future (vegetative) condition of restoring and maintaining a healthy forest in the project area, the Cooney McKay proposal includes mechanical and/or hand vegetation treatments of mature and immature forest, ecosystem maintenance burning on approximately 2,500 acres of upper elevation forest and shrubland stands; hand planting of approximately 302 acres; and invasive plants/noxious weed treatment on traveled roadways. In addition, approximately 900 acres may be understory or jackpot burned following treatment. The proposal includes the construction and subsequent reclamation of approximately 2 miles of temporary roads on National Forest System lands to access treatment units. Best Management Practices would be applied to all temporary roads constructed and roads temporarily opened, as well as all system roads used in association with this project for access and product removal.

The proposed management actions summarized above are being considered together because they represent either connected or cumulative actions as defined by the Council on Environmental Quality (40 CFR 1508.25).

Possible Alternatives

Alternatives may be developed to respond to concerns that the proposed action could potentially result in adverse impacts to white-tailed deer winter habitat or that the proposed action could potentially impact wildlife species associated with closed canopy forest communities.

Responsible Official

Cathy Barbouletos, Forest Supervisor, Flathead National Forest, 1935 3rd Avenue East, Kalispell, MT 59901, is the responsible official for the preparation of the EIS and will make a decision regarding this proposal.

Nature of Decision To Be Made

This project will provide for removal of approximately 5.5 MMBF of commercial forest products, use of prescribed fire for ecosystem maintenance burning, shrub/grassland maintenance, reduction of hazardous fuels, and provide personal-use wood products for the local community.

Scoping Process

Public and internal scoping for this proposal is being initiated by the publication of this Notice of Intent to prepare an environmental impact statement for the Cooney McKay Project in the Federal Register. The Forest Service scoping for the proposal includes the publishing of a legal notice in the paper of record, which will coincide with a mailing of information about the proposal to interested parties during January 2007. Multiple mailings to other government agencies, the public and organizations are planted to insure that interested parties are aware of and have an opportunity to comment on the proposal. The Forest Service plans on issuing news releases periodically during the development of this proposal. In addition the proposal will be included in the Schedule of Proposed Actions, which is updated quarterly and available on the National Forest Service Web site. A public meeting and field trip are tentatively planned for the June-July 2007 timeframe, the location of both of these scoping events will be at the Forest Service Condon Work Center, Condon, Montana.

Preliminary Issues

Preliminary issues identified to-date include concerns that the implementation of the proposed action could result in the loss of white-tailed deer winter habitat and could also potentially reduce habitat for wildlife species associated with closed forest canopy communities.

Comment Request

This Notice of Intent initiates the scoping process, which guides the development of the environmental impact statement.

Early Notice of Importance of Public Participation in Subsequent Environmental Review

A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that is meaningful and alerts an agency to the reviewer's position and contentions. Vermont Yankee Nuclear Power Corp. v. NRDC, 435 U.S. 519, 553 (1978). Also, environmental objections that could be raised at the draft environmental impact statement stage, but that are not raised until after completion of the final environmental impact statement, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement,

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: December 15, 2006.
Cathy Barbouletos,
Forest Supervisor.

[FR Doc. 06-9821 Filed 12-21-06; 8:45 am]

BILLING CODE 3410-11-M